DEPARTMENT OF ENERGY

Federal Energy Regulatory Commission

[Project No: 2042-153]

Public Utility District No. 1 of Pend Oreille County, Washington; Notice of Application for Amendment of License, and Soliciting Comments and Motions To Intervene

May 11, 2009.

Take notice that the following application has been filed with the Commission and is available for public inspection:

a. Application Type: Request for Amendment of License.

b. Project No: 2042-153.

c. Date Filed: March 24, 2009.

d. Applicant: Public Utility District No. 1 of Pend Oreille County, Washington.

e. Name and Location of Project: The Box Canyon Hydroelectric Project is located on the Pend Oreille River in northeastern Washington and northwestern Idaho. The project occupies federal lands, including acreage within the Colville National Forest and the Kalispel Indian Reservation.

f. Filed Pursuant to: The application for amendment of license was filed pursuant to 18 CFR 4.201.

g. Applicant Contacts: Mr. Mark Cauchy, Pend Oreille PUD, P.O. Box 190, 130 North Washington, Newport, WA 99156, (509) 447-9331, and Mr. James B. Vasile, Davis Wright Tremaine LP, 1919 Pennsylvania Avenue, NW., Suite 200, Washington, DC 20006, (202) 973-4262.

h. FERC Contact: Any questions on this notice should be addressed to Mr. Mark Carter, (202) 502-6554 or mark.carter@ferc.gov, and Ms. Holly Frank, (202) 502-6833 or holly.frank@ferc.gov.

i. Deadline for filing comments and motions: Comments on the application for amendment of license are due within 30 days of the issuance date of this notice.

All documents (original and eight copies) should be filed with: Kimberly D. Bose, Secretary, Federal Energy Regulatory Commission, 888 First Street, NE., Washington, DC 20426.

Please include the project number (P-2042-153) on any comments or motions filed.

Comments may be filed electronically via the Internet in lieu of paper. The Commission strongly encourages electronic filings. See 18 CFR 385.2001(a)(1)(iii) and the instructions on the Commission's Web site (http://www.ferc.gov) under the “e-Filing” link.

j. Background and Description of Proposal: On July 11, 2005, the Commission issued a new license for the continued operation of the Box Canyon Project. On November 17, 2006, the Commission issued its order on rehearing of the July 11 relicense order. The relicense order, as amended by the order on rehearing, contains, in their entirety, conditions submitted by the Department of the Interior (Interior) and the U.S. Forest Service pursuant to section 4(e) of the Federal Power Act (FPA) and the fish passage measures prescribed by Interior pursuant to FPA section 18. On November 21, 2006, the Pend Oreille PUD petitioned the Court of Appeals for the District of Columbia for review of the Commission's July 2005 licensing order and its November 2006 order on rehearing, alleging the 4(e) conditions and section 18 prescriptions were not based on substantial evidence. In February 2007 the case was referred to mediation. The parties have settled the issues and developed revised conditions and prescriptions as a result.

The revised section 4(e) conditions and section 18 prescriptions are included as appendices A through D of the settlement agreement filed with the application for amendment of license. Additional provisions to be included in the license are set forth in appendix E. The settlement agreement also requires Interior and the Forest Service to file revised section 4(e) conditions that will replace certain conditions set forth in the July 11, 2005 licensing order. On April 7 and 9, 2009, respectively, the Forest Service and Interior filed their revised conditions and fishway prescriptions for the project. The Pend Oreille PUD requests that the Commission amend the new license to substitute the revised conditions and prescriptions submitted by the Forest Service and Interior and the additional provisions set forth in Appendix E to the settlement agreement. The Pend Oreille PUD also requests that the Commission make conforming revisions to license articles 401, 402 and 406 to reflect new schedules and other revisions set forth in the revised conditions and prescriptions.

k. Locations of the Application: The settlement agreement and application, Interior's revised section 4(e) and section 18 fishway prescriptions and the Forest Service's revised section 4(e) terms and conditions, are available for review at the Commission in the Public Reference Room or may be viewed on the Commission's Web site at http://www.ferc.gov using the “eLibrary” link. Enter the docket number excluding the last three digits in the docket number field to access the documents. For assistance, contact FERC Online Support at FERCOnlineSupport@ferc.gov or toll-free at 1-866-208-3676, or for TTY, (202) 502-8659. A copy is also available for inspection and reproduction at the address in item g above.

You may also register online at http://www.ferc.gov/docs-filing/esubscription.asp to be notified via e-mail of new filings and issuances related to this or other pending projects. For assistance, contact FERC Online Support.

l. Individuals desiring to be included on the Commission's mailing list should so indicate by writing to the Secretary of the Commission.

Comments—Anyone may submit comments or a motion to intervene in accordance with the requirements of Rules of Practice and Procedure, 18 CFR 385.210 and 385.214. In determining the appropriate action to take, the Commission will consider all comments and motions to intervene, but only those who file a motion to intervene in accordance with the Commission's Rules may become a party to the proceeding. Any comments or motions to intervene must be received on or before the specified comment date for the application.

Filing and Service of Responsive Documents—Any filings must bear in all capital letters the title “COMMENTS” or “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, State, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. E9-11464 Filed 5-15-09; 8:45 am]

BILLING CODE 6717-01-P